SMALL BUSINESS ADMINISTRATION

13 CFR Part 125

RIN: 3245-AF07

Small Business Government Contracting Programs; Correction

AGENCY: Small Business Administration.

ACTION: Final rule; correction.

SUMMARY: This document corrects the DATES section of the final rule amending 13 CFR part 125, published on October 20, 2003, in 68 FR 60006, which amended regulations governing small business prime contracting assistance.

DATES: The effective date of the rule FR Doc. 03-26514 published on October 20, 2003 (68 FR 60006) is corrected to October 20, 2003.

FOR FURTHER INFORMATION CONTACT: Dean Koppel, Assistant Administrator, Office of Policy and Research (202) 401-8105 or dean.koppel@sba.gov.

Linda G. Williams,
Associate Administrator, Office of Government Contracting.

[FR Doc. 03-26966 Filed 10-24-03; 8:45 am]

BILLING CODE 8025-01-P